DEPARTMENT OF HEALTH AND HUMAN SERVICES

Health Care Financing Administration

42 CFR Part 422

[HCFA-1030-CN2]

RIN 0938-AI29

Medicare Program; Establishment of the Medicare+Choice Program; Correction

AGENCY: Health Care Financing Administration (HCFA), HHS.

ACTION: Final rule with comment period; Correction.

SUMMARY: On June 29, 2000, we published in the Federal Register, at 65 FR 40170, a final rule with comment period that responded to comments on the June 26, 1998 interim final rule that implemented the Medicare+Choice (M+C) program and made revisions to those regulations where warranted. We also made revisions to the regulations that were necessary to reflect the changes to the M+C program resulting from the Balanced Budget Refinement Act of 1999. This document corrects omissions made in the June 29, 2000 document regarding deeming status.

EFFECTIVE DATE: July 31, 2000.

FOR FURTHER INFORMATION CONTACT: Trisha Kurtz, (410) 786-4670.

SUPPLEMENTARY INFORMATION: In our final rule published June 29, 2000 (65 FR 40170), on page 40232 of the preamble, we responded to public comments that addressed our authority under § 422.156 (Compliance deemed on the basis of accreditation), paragraph (e)(1), to remove deemed status on the basis of a review of accreditation results. In the preamble, we clarified that we do not intend to overrule an accreditation organization's survey decision without conducting our own investigation. We also noted that if our own investigation reveals that a condition is not met, we reserve the right to remove the MCO's deemed status even when the accreditation organization has not removed accreditation with respect to that condition. In order to clarify the distinction between: (1) A removal of deemed status by HCFA, based on HCFA's own survey; and (2) a removal based on a determination of noncompliance by an accreditation organization as a result of its accreditation survey, we stated that we would revise § 422.156(e)(1). However, we inadvertently omitted making this change in the regulations text. This document corrects that omission by revising § 422.156(e)(1).

In addition, on pages 40233 through 40234 of the preamble, we responded to a commenter's concern regarding removal of an accreditation organization's approval, regardless of the “rate of disparity” between certification by the accreditation organization and certification by HCFA or our agent, by adding another reporting requirement in § 422.157 (Accreditation organizations), paragraph (c)(6). This change requires that accreditation organizations provide us annually with summary data relating to their accreditation activities and observed trends. These data will assist us in making a comprehensive assessment of accreditation organizations' performance, and will help ensure that our oversight decisions are well-informed and appropriate. However, this change was inadvertently omitted in the final regulations text. This document corrects that omission by adding § 422.157(c)(6).

Correction of Errors

Regulations Text

§ 422.156 [Corrected]

1. On page 40323, in column 2, amendatory instruction number 29 is corrected to read “Revise paragraphs (a), (b), and (e)(1) in § 422.156 to read as follows:” and corrected paragraph (e)(1) is added:

§ 422.156 Compliance deemed on the basis of accreditation.

* * * * *

(e) * * *

(1) HCFA determines, on the basis of its own investigation, that the M+C organization does not meet the Medicare requirements for which deemed status was granted.

* * * * *

§ 422.157 [Corrected]

1. On page 40323, in column 3, amendatory instruction number 30 is corrected to read “Section 422.157 is amended by republishing the introductory text for paragraph (a), revising paragraphs (a)(3) and (b)(1), and adding new paragraph (c)(6) to read as follows:” and new paragraph (c)(6) is added:

§ 422.157 Accreditation organizations.

* * * * *

(c) * * *

(6) Provide, on an annual basis, summary data specified by HCFA that relate to the past year's accreditation activities and trends.

* * * * *

(Authority: Sections 1851 through 1859 of the Social Security Act (42 U.S.C. 1395w-21 through 1395w-28))

(Catalog of Federal Domestic Assistance Program No. 93.773, Medicare—Hospital Insurance; and Program No. 93-774, Medicare—Supplementary Medical Insurance Program)

Dated: September 28, 2000.
Brian P. Burns,
Deputy Assistant Secretary for Information Resources Management.

[FR Doc. 00-25499 Filed 10-5-00; 8:45 am]

BILLING CODE 4120-01-P